DEPARTMENT OF TRANSPORTATION

Surface Transportation Board

[Finance Docket No. 34079]

San Jacinto Rail Limited—Construction Exemption—and The Burlington Northern and Santa Fe Railway Company—Operation Exemption—Build-Out to the Bayport Loop Near Houston, Harris County, TX

AGENCY: Surface Transportation Board, DOT.

ACTION: Thirty day extension on comment period of the scope of the Environmental Impact Statement.

SUMMARY: Comments on the scope of the Environmental Impact Statement (EIS) to be prepared by the Surface Transportation Board's Section of Environmental Analysis (SEA) in this proceeding were due on February 1, 2002. In response to written requests for an extension of the comment period, SEA is advising all interested persons that the comment period will be extended for a period of 30 days. Comments are now due on March 14, 2002.

SEA believes the extension is appropriate to provide the public sufficient opportunity to raise issues pertinent to scoping. Specifically, comments stated that an extension of the comment period is needed for potentially affected community members to explore alternatives to the proposed route. SEA recognizes that the examination of alternatives is a central consideration of the EIS, and the identification of alternatives is an important part of the scoping process. Thus, a 30-day extension of the comment period furthers the goals of the EIS process without introducing needless delay into the agency's environmental review.

SEA strongly encourages that comments be submitted in writing. However, for parties in circumstances where submission of written comments may be impractical, parties may also submit oral comments to the toll-free number for this project at 1-888-229-7857. Persons submitting oral comments are invited to make their comments in Spanish, as well as English.

DATES: The time for filing comments on the scope of the EIS has been extended to March 14, 2002.

FILING ENVIRONMENTAL COMMENTS: Interested persons and agencies are invited to participate in the EIS scoping process. A signed original and 10 copies of comments should be submitted to: Office of the Secretary, Case Control Unit, STB Finance Docket No. 34079, Surface Transportation Board, 1925 K Street, NW, Washington, DC 20423-0001.

To ensure proper handling of your comments, you must mark your submission: Attention: Dana White, Section of Environmental Analysis, Environmental Filing.

FOR FURTHER INFORMATION CONTACT: Ms. Dana White, Section of Environmental Analysis, Surface Transportation Board, 1925 K Street, NW, Washington, DC 20423-0001, or SEA's toll-free number for this project at 1-888-229-7857 (TDD for the hearing impaired 1-800-877-8339). The website for the Surface Transportation Board is www.stb.dot.gov.

By the Board, Victoria Rutson, Chief, Section of Environmental Analysis.
Vernon A. Williams,
Secretary.

[FR Doc. 02-3508 Filed 2-12-02; 8:45 am]

BILLING CODE 4915-00-P